DEPARTMENT OF VETERANS AFFAIRS

Enhanced-Use Lease Development of Vacant Property at the Department of Veterans Affairs Medical Center, Albuquerque, NM

AGENCY: Department of Veterans Affairs.

ACTION: Notice of designation.

SUMMARY: The Secretary of the Department of Veterans Affairs (VA) is designating the Veterans Affairs Medical Center in Albuquerque, NM, for an Enhanced-Use leasing development. The Department intends to enter into a long-term lease (up to 75 years) of real property with a competitively selected lessee/developer who will finance, design, develop, maintain and manage an Enhanced-Use leasing project, all at no cost to VA.

FOR FURTHER INFORMATION CONTACT: Renee Badey, Office of Asset Enterprise Management (004B), Department of Veterans Affairs, 810 Vermont Avenue, NW, Washington, DC 20420, (202) 565-4307.

SUPPLEMENTARY INFORMATION: 38 U.S.C. 8161 et seq., specifically provides that the Secretary may enter into an Enhanced-Use lease, if he determines that at least part of the use of the property under the lease will be to provide appropriate space for an activity contributing to the mission of the Department; the lease will not be inconsistent with and will not adversely affect the mission of the Department; and the lease will enhance the property or result in improved services to veterans. This project meets these requirements.

Approved: August 13, 2001.
Anthony J. Principi,
Secretary of Veterans Affairs.

[FR Doc. 01-21134 Filed 8-21-01; 8:45 am]

BILLING CODE 8320-01-M